DEPARTMENT OF HOMELAND SECURITY

Coast Guard

33 CFR Part 161

[Docket No. USCG-1998-4399]

RIN 1625-AA58

Vessel Traffic Service Lower Mississippi River; Correction

AGENCY: Coast Guard, DHS.

ACTION: Final rule; correction.

SUMMARY: The United States Coast Guard published a final rule in the Federal Register on October 28, 2010 (75 FR 66309) establishing a mandatory participation Vessel Traffic Service (VTS) on the Lower Mississippi River and transferring certain vessel traffic management provisions of the Mississippi River, Louisiana—Regulated Navigation Area to the VTS. That document inadvertently transposed the coordinates for two of the reporting points for the Algiers Point Special Area.

DATES: Effective on May 31, 2011.

FOR FURTHER INFORMATION CONTACT: If you have questions on this correcting amendment or the corresponding rule, call or e-mail Lieutenant Commander Jim Larson, Office of Shore Forces (CG-7413), Coast Guard; telephone 202-372-1554, e-mail James.W.Larson@uscg.mil. If you have questions on viewing the docket, call Renee V. Wright, Program Manager, Docket Operations, telephone 202-366-9826.

SUPPLEMENTARY INFORMATION: This amendment corrects a previously printed error in the final rule that mistakenly transposed geographic coordinates for the Algiers Canal Forebay and Huey P Long Bridge reporting points in Table 161.65(f), VTS Lower Mississippi River Reporting Points.

List of Subjects in 33 CFR Part 161

Harbors, Navigation (water), Reporting and recordkeeping requirements, Vessels, Waterways.

Accordingly, 33 CFR part 161 is corrected by making the following correcting amendment:

PART 161—VESSEL TRAFFIC MANAGEMENT

1. The authority citation for part 161 continues to read as follows:

Authority: 33 U.S.C. 1223, 1231; 46 U.S.C. 70114, 70119; Pub. L. 107-295, 116 Stat. 2064; Department of Homeland Security Delegation No. 0170.1.

2. In § 161.65, revise Table 161.65(f) to read as follows:

§ 161.65 Vessel Traffic Service Lower Mississippi River.

* * * * *

(f) * * *

Table 161.65(f)—VTS Lower Mississippi River Reporting Points
Designator | Geographic name | Geographic description | Latitude/longitude/mile marker | Notes
A | Algiers Canal Forebay | 88.0 AHP | 29°55.40′ N; 89°57.7′ W | Upbound transiting Algiers Point Special Area.
B | Industrial Canal | 92.7 AHP | 29°57.2′ N; 90°01.68′ W | Upbound transiting Algiers Point Special Area.
C | Crescent Towing Smith Fleet | 93.5 AHP | 29°57.50′ N; 90°02.62′ W | Upbound Towing vessels transiting Algiers Point Special Area.
D | Marlex Terminal (Naval Ships) | 99.0 AHP | 29°54.65′ N; 90°05.87′ W | Downbound transiting Algiers Point Special Area.
E | Huey P Long Bridge | 106.1 AHP | 29°56.6′ N; 90°10.1′ W | Downbound transiting Algiers Point Special Area.

Dated: May 24, 2011.
Kathryn A. Sinniger,
Chief, Office of Regulations and Administrative Law, United States Coast Guard.

[FR Doc. 2011-13332 Filed 5-27-11; 8:45 am]

BILLING CODE 9110-04-P